DEPARTMENT OF DEFENSE

Department of the Navy

Information on Surplus Land at a Military Installation Designated for Disposal: Naval Station Pascagoula, MS

AGENCY: Department of the Navy, DoD.

ACTION: Notice.

SUMMARY: This notice provides information on withdrawal of surplus property at Naval Station Pascagoula, MS, Sandhill Landing Housing Area.

FOR FURTHER INFORMATION CONTACT: Ms. Kimberly Kesler, Director, Base Realignment and Closure Program Management Office, 1455 Frazee Road, San Diego, CA 92108-4310, telephone 619-532-0993; or Mr. James E. Anderson, Director, Base Realignment and Closure Program Management Office, Southeast, 4130 Faber Place Drive, Suite 202, North Charleston, SC 29405, telephone 843-743-2147.

SUPPLEMENTARY INFORMATION: In 2005, Naval Station Pascagoula, including the Lakeside Manor and Sandhill Landing Housing areas, was designated for closure under the authority of the Defense Base Closure and Realignment Act of 1990, Public Law 101-510, as amended (the Act). On May 10, 2006, the Department of the Navy (DON) published a Notice in the Federal Register (71 FR 27237 and 27238) that land and facilities at this installation were declared surplus to the needs of the Federal Government. Land and facilities previously reported as surplus are now required by the Federal Government to satisfy military housing requirements in the Gulf Coast region.

Notice of Surplus Property. Pursuant to paragraph (7)(B) of Section 2905(b) of the Act, as amended by the Base Closure Community Redevelopment and Homeless Assistance Act of 1994, the following information regarding the withdrawal of previously reported surplus property at Naval Station Pascagoula, MS, is provided.

Withdrawn Property Description. The surplus determination for the following land and facilities at Naval Station Pascagoula, MS, is withdrawn.

a. Land. Naval Station Pascagoula, MS, Sandhill Landing housing area consists of approximately 73 acres of improved fee simple land located within Jackson County and the City of Gautier.

b. Buildings. The following is a summary of the buildings and other improvements located on the above-described land that will also be withdrawn:

(1) Housing units (160 units). Comments: 94 three-bedroom townhouse apartments and 66 four-bedroom apartments.

(2) Paved areas. Comments: Approximately 16,443 square yards of roads, parking lots, sidewalks, etc.

(3) Recreational facilities include basketball and tennis courts, tot lots, picnic areas, and playgrounds. Comments: Measuring systems vary.

Dated: February 27, 2007.
M.A. Harvison,
Lieutenant Commander, Judge Advocate General's Corps, U.S. Navy, Federal Register Liaison Officer.

[FR Doc. E7-3850 Filed 3-5-07; 8:45 am]

BILLING CODE 3810-FF-P